EQUAL EMPLOYMENT OPPORTUNITY COMMISSION

SES Performance Review Board—Appointment of Members

AGENCY: Equal Employment Opportunity Commission.

ACTION: Notice.

SUMMARY: Notice is hereby given of the appointment of members to the Performance Review Board of the Equal Employment Opportunity Commission.

FOR FURTHER INFORMATION CONTACT: Traci M. DiMartini, Chief Human Capital Officer, U.S. Equal Employment Opportunity Commission, 131 M Street NE., Washington, DC 20507, (202) 663-4306.

SUPPLEMENTARY INFORMATION: Publication of the Performance Review Board (PRB) membership is required by 5 U.S.C. 4314(c)(4). The PRB reviews and evaluates the initial appraisal of a senior executive's performance by the supervisor, and makes recommendations to the Chair, EEOC, with respect to performance ratings, pay level adjustments and performance awards.

The following are the names and titles of executives appointed to serve as members of the SES PRB. Members will serve a 12-month term, which begins on November 29, 2016.

PRB Chair:

Ms. Germaine P. Roseboro, Chief Financial Officer, Equal Employment Opportunity Commission.

Members:

Ms. Peggy R. Mastroianni, Legal Counsel, Equal Employment Opportunity Commission;

Mr. Bryan C. Burnett, Chief Information Officer, Equal Employment Opportunity Commission;

Ms. Veronica Venture, Director, EEO and Diversity, Department of Homeland Security;

Mr. John M. Robinson, Director, Office of Civil Rights/Chief Diversity Officer, U.S. State Department.

By the direction of the Commission.
Dated: November 14, 2016.
Jenny R. Yang,
Chair.

[FR Doc. 2016-27710 Filed 11-17-16; 8:45 am]

BILLING CODE 6570-01-P